ENVIRONMENTAL PROTECTION AGENCY

[ER-FRL-9059-6]

Environmental Impact Statements; Notice of Availability

Responsible Agency: Office of Federal Activities, General Information 202-564-5632 or https://www.epa.gov/nepa.

Weekly receipt of Environmental Impact Statements (EIS)

Filed November 19, 2021 10 a.m. EST Through November 29, 2021 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210178, Final, USFWS, OR, Final Bighorn Sheep Management Plan Environmental Impact Statement, Review Period Ends: 01/03/2022, Contact: Shannon Ludwig 541-947-3315.

EIS No. 20210179, Draft, Caltrans, CA, Cajalco Road Widening and Safety Enhancement Project, Comment Period Ends: 01/18/2022, Contact: Aaron Burton 909-383-2841.

EIS No. 20210180, Final, NOAA, CT, Connecticut National Estuarine Research Reserve, Review Period Ends: 01/03/2022, Contact: Erica Seiden 240-533-0781.

EIS No. 20210181, Final, FRA, NY, Western Rail Yard Infrastructure Project, Contact: Marlys Osterhues 617-494-2147.

Under 23 U.S.C. 139(n)(2), FRA has issued a single document that consists of a final environmental impact statement and record of decision. Therefore, the 30-day wait/review period under NEPA does not apply to this action.

Dated: November 29, 2021.
Cindy S. Barger,
Director, NEPA Compliance Division, Office of Federal Activities.

[FR Doc. 2021-26285 Filed 12-2-21; 8:45 am]

BILLING CODE 6560-50-P